FEDERAL MARITIME COMMISSION

Sunshine Act Meeting

AGENCY HOLDING THE MEETING: Federal Maritime Commission.

TIME AND DATE: October 5, 2011-10 a.m.

PLACE: 800 North Capitol Street, NW., First Floor Hearing Room, Washington, DC.

STATUS: The meeting will be held in Open Session.

Matters To Be Considered

1. Staff Recommendation Concerning Proposed Modification of 46 CFR 530.8(c)(2) for Index-based Service Contracts.

2. Update and Discussion of PierPass Traffic Mitigation Fee.

3. Initial Discussion of Factors that May Impact Diversion of U.S.-Bound Cargo from U.S. Ports to Canadian and Mexican Ports.

CONTACT PERSON FOR MORE INFORMATION: Karen V. Gregory, Secretary, (202) 523-5725.

Karen V. Gregory,
Secretary.

[FR Doc. 2011-25338 Filed 9-28-11; 11:15 am]

BILLING CODE 6730-01-P